DEPARTMENT OF EDUCATION

List of Approved “Ability-to-Benefit” (ATB) Tests and Passing Scores

AGENCY: Department of Education.

ACTION: Update notice.

SUMMARY: This notice provides an update to the list of ATB tests approved by the Secretary, pursuant to section 484(d) of the Higher Education Act of 1965, as amended (HEA), and the implementing regulations in 34 CFR part 668, subpart J.

This notice extends the Secretary's approval of the Combined English Language Skills Assessment (CELSA) test, with updated passing scores, as an ATB test for students whose native language is not English and who are not fluent in English. It also adds the ESL Placement (COMPASS/ESL) test as a newly approved ATB test for students whose native language is not English and who are not fluent in English.

FOR FURTHER INFORMATION CONTACT: David Morgan, U.S. Department of Education, Federal Student Aid, Union Center Plaza, 830 First Street, NE., Washington, DC 20202-5345. Telephone: (202) 377-4033.

If you use a telecommunications device for the deaf (TDD), you may call the Federal Relay Service (FRS) at 1-800-877-8339.

Individuals with disabilities may obtain a copy of this document in an alternative format (e.g., Braille, large print, audiotape, or computer diskette) on request to the contact person listed under FOR FURTHER INFORMATION CONTACT.

SUPPLEMENTARY INFORMATION: Under the HEA and 34 CFR part 668, subpart J, students who do not have a certificate of graduation from a school providing secondary education or its recognized equivalent must successfully complete an ATB test as approved by the Secretary, in order to be eligible for Title IV, program assistance.

A student who does not have a high school diploma or its recognized equivalent whose native language is not English and is not fluent in English, and who is enrolled in a program that is taught in the student's native language must take an approved test developed in the student's native language. To date, no non-English ATB tests have been submitted to the Secretary for approval.

A student who does not have a high school diploma or its recognized equivalent whose native language is not English and is not fluent in English, and who is enrolled in a program that is taught in English must take an ATB test designed to measure the English language competence of a non-native speaker. Students who are enrolled in such a program that has an “English as a Second Language” (ESL) component and who are enrolled in the ESL component, must take an approved ATB test specifically for a student whose native language is not English and who is not fluent in English. Students who are enrolled in an ESL program only also must take an approved ATB test specifically for a student whose native language is not English and who is not fluent in English.

Both CELSA and the ESL Placement (COMPASS/ESL) tests as listed in this notice are approved by the Secretary for students whose native language is not English and who are not fluent in English.

A student who does not have a high school diploma or its recognized equivalent, and whose native language is not English and is not fluent in English, who is enrolled in a program that is taught in English without an ESL component, or the student does not enroll in the ESL component of the program, must take an ATB test in English that assesses secondary school verbal and quantitative skills.

The Secretary amends the list of approved ATB tests and passing scores that was published in the Federal Register on March 11, 2005 (70 FR 12208) by adding the ESL Placement Test (COMPASS/ESL) and its passing scores. The ESL Placement Test (COMPASS/ESL) may be used as an ATB test for Title IV eligibility purposes consistent with 34 CFR part 668, subpart J as of the date of this notice. The Secretary is also extending the approval of the CELSA test and updating its passing scores. The current passing scores on CELSA Form 1 of (90) and CELSA Form 2 of (90) will expire on June 19, 2006. The new passing scores of CELSA Form 1 of (97) and CELSA Form 2 of (97) are effective on June 19, 2006.

List of approved tests and passing scores: For the convenience of all interested parties, we list below all approved ATB tests and their passing scores.

1. ASSET Program: Basic Skills Tests (Reading, Writing, and Numerical)—Forms B2, C2, D2 and E2.

Passing Scores: The approved passing scores on this test are as follows: Reading (35), Writing (35), and Numerical (33).

Publisher: The test publisher and the address, contact person, telephone, and fax number of the test publisher are: ACT, Inc., 500 ACT Drive, Iowa City, Iowa 52243-0168. Contact: Dr. John D. Roth; Telephone: (319) 337-1030, Fax: (319) 337-1790.

2. Career Programs Assessment (CPAT) Basic Skills Subtests (Language Usage, Reading and Numerical)—Forms B and C.

Passing Scores: The approved passing scores on this test are as follows: Language Usage (42), Reading (43), and Numerical (41).

Publisher: The test publisher and the address, contact person, telephone, and fax number of the test publisher are: ACT, Inc., 500 ACT Drive, Iowa City, Iowa 52243-0168, Contact: Dr. John D. Roth, Telephone: (319) 337-1030, Fax: (319) 337-1790.

3. COMPASS Subtests: Prealgebra/Numerical Skills Placement, Reading Placement, and Writing Placement.

Passing Scores: The approved passing scores on this test are as follows: Prealgebra/Numerical (25), Reading (62), and Writing (32).

Publisher: The test publisher and the address, contact person, telephone, and fax number of the test publisher are: ACT, Inc., 500 ACT Drive, Iowa City, Iowa 52243-0168. Contact: Dr. John D. Roth, Telephone: (319) 337-1030, Fax: (319) 337-1790.

4. Combined English Language Skills Assessment (CELSA), Forms 1 and 2.

Passing Scores: The approved passing scores on this test are as follows: CELSA Form 1 (97) and CELSA Form 2 (97).

Publisher: The test publisher and the address, contact person, telephone, and fax number of the test publisher are: Association of Classroom Teacher Testers (ACTT), 1187 Coast Village Road, Suite 1 #378, Montecito, California 93108-2794. Contact: Pablo Buckelew, Telephone: (805) 965-5704, Fax: (805) 965-5807.

Note: The CELSA test is approved only for certain students whose native language is not English and who are not fluent in English as provided in 34 CFR 668.153(a)(2).

5. Computerized Placement Tests (CPTs)/Accuplacer (Reading Comprehension, Sentence Skills, and Arithmetic).

Passing Scores: The approved passing scores on this test are as follows: Reading Comprehension (55), Sentence Skills (60), and Arithmetic (34).

Publisher: The test publisher and the address, contact person, telephone, and fax number of the test publisher are: The College Board, 45 Columbus Avenue, New York, New York 10023-6992. Contact: Technical Support, Telephone: (800) 486-8497.

6. Descriptive Tests: Descriptive Tests of Language Skills (DTLS) (Reading Comprehension, Sentence Structure and Conventions of Written English)—Forms M-K-3KDT and M-K-3LDT; and Descriptive Tests of Mathematical Skills (DTMS) (Arithmetic)—Forms M-K-3KDT and M-K-3LDT.

Passing Scores: The approved passing scores on this test are as follows: Reading Comprehension (108), Sentence Structure (9), Conventions of Written English (309), and Arithmetic (506).

Publisher: The test publisher and the address, contact person, telephone, and fax number of the test publisher are: The College Board, 45 Columbus Avenue, New York, New York 10023-6992. Contact: Technical Support, Telephone: (800) 486-8497.

7. ESL Placement Test (COMPASS/ESL).

Passing scores: The approved passing scores on this test are as follows: Grammar/Usage (64), Reading (70) and Listening (70).

Publisher: The test publisher and the address, contact person, telephone, and fax number of the test publisher are: ACT, Inc., 500 ACT Drive, Iowa City, Iowa 52243-0168. Contact: Dr. John Roth, Telephone: (319) 337-1030, Fax: (319) 337-1790.

Note: The COMPASS/ESL test is approved only for certain students whose native language is not English and who are not fluent in English as provided in 34 CFR 668.153(a)(2).

8. Wonderlic Basic Skills Test (WBST)—Verbal Forms VS-1 & VS-2, Quantitative Forms QS-1 & QS-2.

Passing scores: The approved passing scores on this test are as follows: Verbal (200) and Quantitative (210).

Publisher: The test publisher and the address, contact person, telephone, and fax number of the test publisher are: Wonderlic Personnel Test, Inc., 1795 N. Butterfield Road, Libertyville, IL 60048. Contact: Mr. David Teuber, Telephone: (877) 605-9499, Fax: (847) 680-9492.

9. WorkKeys Program—Reading for Information Forms A01AA, A02AA, C01AA & D10AA; Applied Mathematics Forms A01BB, A02BB, C01BB, & D01BB.

Passing scores: The approved passing scores on this test are as follows: Reading for Information—Forms A01AA (76), A02AA (75), C01AA (77) & D10AA (77);

Applied Mathematics—Forms A01BB (73), A02BB (74), C01BB (73) & D01BB (73).

Publisher: The test publisher and the address, contact person, telephone, and fax number of the test publisher are: ACT, Inc., WorkKeys Development, Professional Development Services, 101 ACT Drive, P.O. Box 168, Iowa City, Iowa 52243-0168.

Contact: Dr. A. Candace Noble, Telephone: (319) 337-1296, Fax: (319) 337-1229.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1091(d).

Dated: May 16, 2006.
Theresa S. Shaw,
Chief Operating Officer, Federal Student Aid.

[FR Doc. E6-7682 Filed 5-18-06; 8:45 am]

BILLING CODE 4000-01-P